DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by Section 2112(b)(2) of the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 08N146B, Rockville, Maryland 20857; (301) 443-6593, or visit our website at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on January 1, 2020, through January 31, 2020. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the United States Court of Federal Claims at the address listed above (under the heading FOR FURTHER INFORMATION CONTACT), with a copy to HRSA addressed to Director, Division of Injury Compensation Programs, Healthcare Systems Bureau, 5600 Fishers Lane, 08N146B, Rockville, Maryland 20857. The Court's caption (Petitioner's Name v. Secretary of HHS) and the docket number assigned to the petition should be used as the caption for the written submission. Chapter 35 of title 44, United States Code, related to paperwork reduction, does not apply to information required for purposes of carrying out the Program.

Dated: February 20, 2020.
Thomas J. Engels,
Administrator.

List of Petitions Filed

1. Corey Silvers, Medora, Indiana, Court of Federal Claims No: 20-0001V

2. Kristi Austin, Grand Forks, North Dakota, Court of Federal Claims No: 20-0002V

3. Ruth B. Thompson on behalf of The Estate of Richard D. Thompson, Deceased, Washington, District of Columbia, Court of Federal Claims No: 20-0003V

4. Amy Turner, Englewood, New Jersey, Court of Federal Claims No: 20-0004V

5. Beverly Hathcock, Phoenix, Arizona, Court of Federal Claims No: 20-0005V

6. Elaine Vasilopoulos, Glen Oaks, New York, Court of Federal Claims No: 20-0006V

7. Nancy Clark, Washington, District of Columbia, Court of Federal Claims No: 20-0007V

8. Patricia C. Puccio, Prairieville, Louisiana, Court of Federal Claims No: 20-0008V

9. Jason Berberich, Fargo, North Dakota, Court of Federal Claims No: 20-0010V

10. Amanda Jacobs, Charleston, South Carolina, Court of Federal Claims No: 20-0011V

11. Ana Cruz De Jesus, Denver, Colorado, Court of Federal Claims No: 20-0013V

12. Frank Rosseter, Torrington, Connecticut, Court of Federal Claims No: 20-0014V

13. Nico Ghasemipor, Deceased, Waltham, Massachusetts, Court of Federal Claims No: 20-0017V

14. Loren Lynette Machuca on behalf of J.A.M., San Benito, Texas, Court of Federal Claims No: 20-0018V

15. Pamela Stewart, Louisville, Kentucky, Court of Federal Claims No: 20-0019V

16. Kevin Harris, Ada, Oklahoma, Court of Federal Claims No: 20-0020V

17. Keith Irish, Manchester, New Hampshire, Court of Federal Claims No: 20-0021V

18. Erica Stastny, Louisville, Kentucky, Court of Federal Claims No: 20-0022V

19. Megan Zynkian, San Diego, California, Court of Federal Claims No: 20-0023V

20. Paoshoua Vue, Stockton, California, Court of Federal Claims No: 20-0024V

21. Lexi Kestner, Chicago, Illinois, Court of Federal Claims No: 20-0025V

22. Jamar Simmons, Bagram Air Field, Afghanistan, Court of Federal Claims No: 20-0026V

23. Ron Richards and Samantha Richards on behalf of Caleb Lee/Carter Albert Hall-Richards, Ashtabula, Ohio, Court of Federal Claims No: 20-0028V

24. Sheri Boatwright, Sacramento, California, Court of Federal Claims No: 20-0029V

25. Paula Beyerl, Leesburg, Virginia, Court of Federal Claims No: 20-0032V

26. Loretta Franklin, Webster, New York, Court of Federal Claims No: 20-0033V

27. Stacey Cyrus, Boston, Massachusetts, Court of Federal Claims No: 20-0035V

28. Shavon Dickinson on behalf of Z.D., Sacramento, California, Court of Federal Claims No: 20-0038V

29. Terrance Finefrock, Tucson, Arizona, Court of Federal Claims No: 20-0042V

30. Margo Paluilis, Brattleboro, Vermont, Court of Federal Claims No: 20-0043V

31. Dania Pedraza on behalf of N.Q., Brownsville, Texas, Court of Federal Claims No: 20-0045V

32. Sherry Davis, Longview, Washington, Court of Federal Claims No: 20-0046V

33. John Hutton, Folsom, California, Court of Federal Claims No: 20-0049V

34. Deandrea Austin on behalf of D.F., Detroit, Michigan, Court of Federal Claims No: 20-0050V

35. Janet Jackson, Cerro Gordo, Illinois, Court of Federal Claims No: 20-0051V

36. Angelia Johnson, Winston Salem, North Carolina, Court of Federal Claims No: 20-0054V

37. Rhonda Rose, Berea, Kentucky, Court of Federal Claims No: 20-0056V

38. Josephine Inyang, Golden Valley, Minnesota, Court of Federal Claims No: 20-0057V

39. Racquel Deville, Boston, Massachusetts, Court of Federal Claims No: 20-0058V

40. Marlene Borman, Valley Stream, New York, Court of Federal Claims No: 20-0059V

41. Erin Harland, Franklin, Tennessee, Court of Federal Claims No: 20-0060V

42. Bruce A. Ling, Jr., Quincy, Florida, Court of Federal Claims No: 20-0061V

43. Laura Hamilton on behalf of D.H., Boston, Massachusetts, Court of Federal Claims No: 20-0062V

44. Karen J. Darling, Breese, Illinois, Court of Federal Claims No: 20-0063V

45. Caprice Angelica Marcum, Modesto, California, Court of Federal Claims No: 20-0065V

46. Karla Knox, Lewistown, Montana, Court of Federal Claims No: 20-0067V

47. Michelle Mott, Dallas, Texas, Court of Federal Claims No: 20-0068V

48. Mallyssa Day, Biddeford, Maine, Court of Federal Claims No: 20-0070V

49. Debra S. DeYoung, Richmond, Virginia, Court of Federal Claims No: 20-0072V

50. Richard Joseph Spahr, Mt. Pleasant, South Carolina, Court of Federal Claims No: 20-0074V

51. Mark Chase on behalf of Barbara Pauley-Chase, Deceased, Goodyear, Arizona, Court of Federal Claims No: 20-0076V

52. Henry Scott McClain, Boston, Massachusetts, Court of Federal Claims No: 20-0078V

53. Laurie A. Sutherland, Fayetteville, New York, Court of Federal Claims No: 20-0082V

54. Natalie Gorham, Memphis, Tennessee, Court of Federal Claims No: 20-0083V

55. Kenneth Leroy Collins, Jr., Fayetteville, North Carolina, Court of Federal Claims No: 20-0084V

56. Tamatha Kelly, Lakeland, Florida, Court of Federal Claims No: 20-0085V

57. Dwight Johnson, Lebanon, Pennsylvania, Court of Federal Claims No: 20-0088V

58. Jaclyn Russo on behalf of Carly Mann, Martinez, California, Court of Federal Claims No: 20-0089V

59. Jody Bidlack, Boston, Massachusetts, Court of Federal Claims No: 20-0093V

60. Jane Doe, Washington, District of Columbia, Court of Federal Claims No: 20-0094V

61. Joanna Villalobos on behalf of A.D., Harlingen, Texas, Court of Federal Claims No: 20-0096V

62. Patricia Snelson, Saint Charles, Missouri, Court of Federal Claims No: 20-0098V

63. Sharon Issertell, Roseville, California, Court of Federal Claims No: 20-0099V

64. Mazin Khayat, Plantation, Florida, Court of Federal Claims No: 20-0101V

65. Kenya Dixon, Jackson, Mississippi, Court of Federal Claims No: 20-0102V

66. Schantel Purvis, Orange Park, Florida, Court of Federal Claims No: 20-0103V

67. Brenda J. Underwood, Richmond, Virginia, Court of Federal Claims No: 20-0104V

68. Dennis Vivians, Bethesda, Maryland, Court of Federal Claims No: 20-0105V

69. Wesley Faske, Houston, Texas, Court of Federal Claims No: 20-0106V

70. Elissa DiPasquale, Commack, New York, Court of Federal Claims No: 20-0108V

71. Eva Gordon, Dallas, Texas, Court of Federal Claims No: 20-0109V

72. Tina Schaum-Hoey, Baltimore, Maryland, Court of Federal Claims No: 20-0110V

73. Camila Wagner, Lone Tree, Colorado, Court of Federal Claims No: 20-0111V

74. Angela Bulan Bogue, Youngsville, North Carolina, Court of Federal Claims No: 20-0112V

75. Angela Bulan Bogue, Youngsville, North Carolina, Court of Federal Claims No: 20-0113V

76. Teresa Washington-Jenkins, Lancaster, Pennsylvania, Court of Federal Claims No: 20-0114V

[FR Doc. 2020-03980 Filed 2-26-20; 8:45 am]

BILLING CODE 4165-15-P